DEPARTMENT OF TRANSPORTATION

Office of the Secretary

[DOT-OST-2010-0025]

Notice of Request for Renewal of a Previously Approved Collection

AGENCY: Office of the Secretary, DOT.

ACTION: Notice and request for comments.

SUMMARY: In accordance with the Paperwork Reduction Act of 1995 (44 U.S.C. chapter 35, as amended) this notice announces that the Information Collection Request (ICR) abstracted below which will be forwarded to the Office of Management and Budget (OMB) for renewal. The ICR describes the nature of the information collection and its expected burden. The Federal Register notice with a 60-day comment period soliciting comments on the following collection of information was published on February 2, 2010 (75 FR 5369). No comments were received.

DATES: Comments on this notice must be received by July 26, 2010 and sent to the attention of the DOT/OST Desk Officer, Office of Information and Regulatory Affairs, Office of Management and Budget, Docket Library, Room 10102, 725 17th Street, NW., Washington, DC 20503 or oira_submission@omb.eop.gov (e-mail).

FOR FURTHER INFORMATION CONTACT: Mr. Robert C. Ashby, Office of the Secretary, Office of Assistant General Counsel for Regulation and Enforcement, Department of Transportation, 400 Seventh St., SW., Washington, DC 20590, (202) 366-9310 (voice) (202) 366-9313 (fax) or at bob.ashby@ost.dot.gov.

SUPPLEMENTARY INFORMATION: Title: Report of DBE Awards and Commitments.

OMB Control Number: 2105-0510.

Affected Public: DOT financially-assisted State and local transportation agencies.

Frequency of response: once/twice a year.

Estimated Total Burden on Respondents: 1,311,000.

Comments are invited on: (a) Whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. All responses to this notice will be summarized and included in the request for OMB approval. All comments will also become a matter of public record.

Issued in Washington, DC, on June 21, 2010.
Robert C. Ashby,
Deputy Assistant General Counsel for Regulation and Enforcement.

[FR Doc. 2010-15419 Filed 6-24-10; 8:45 am]

BILLING CODE 4910-9X-P